DEPARTMENT OF DEFENSE

Department of the Air Force

Public Interface Control Working Group for the NAVSTAR GPS Public Documents; Correction

AGENCY: Global Positioning System (GPS), Department of the Air Force, Department of Defense (DOD).

ACTION: Notice; correction.

SUMMARY: The Department of the Air Force published a document in the Federal Register of August 2, 2021, concerning an open public forum to discuss GPS public documents revisions and collection comments. The document contained incorrect dates.

FOR FURTHER INFORMATION CONTACT: Lt. Adam Barnette, (310) 653-9518 (Voice), SMCGPER@us.af.mil (Email), SMC/ZACS, 483 North Aviation Blvd., El Segundo, CA 90245-2807.

SUPPLEMENTARY INFORMATION:

Correction

In the Federal Register of August 2, 2021, in FR Doc. 2021-16360, on page 41453, in the first column, correct the Dates caption to read:

DATES:

Open to the public in person and virtually Wednesday, September 29, 2021 from 8:30 a.m. to 4:00 p.m. (Pacific Time).

Adriane Paris,
Acting Air Force Federal Register Liaison Officer.

[FR Doc. 2021-17506 Filed 8-13-21; 8:45 am]

BILLING CODE 5001-10-P